DEPARTMENT OF ENERGY

Federal Energy Regulatory Commission

Combined Notice of Filings #1

Take notice that the Commission received the following electric corporate filings:

Docket Numbers: EC18-88-000.

Applicants: Calpine Corporation, CPPIB Calpine Canada Inc.

Description: Supplement to April 23, 2018 Application for Authorization Under Section 203 of the Federal Power Act of Calpine Corporation, et al.

Filed Date: 5/18/18.

Accession Number: 20180518-5202.

Comments Due: 5 p.m. ET 5/29/18.

Docket Numbers: EC18-94-000.

Applicants: Hunlock Energy, LLC, UGI Development Company.

Description: Application for Approval under Section 203 of the Federal Power Act and Request for Expedited Treatment of Hunlock Energy, LLC, et al.

Filed Date: 5/22/18.

Accession Number: 20180522-5195.

Comments Due: 5 p.m. ET 6/12/18.

Take notice that the Commission received the following electric rate filings:

Docket Numbers: ER11-3658-001; ER12-1920-001; ER13-1595-001; ER14-2085-001.

Applicants: Entergy Services, Inc.

Description: Entergy Services, Inc. submits tariff filing per 35.19a(b): Refund Report to be effective N/A.

Filed Date: 5/18/18.

Accession Number: 20180518-5220.

Comments Due: 5 p.m. ET 6/8/18.

Docket Numbers: ER12-2065-004; ER14-2472-004; ER15-1721-003.

Applicants: Aequitas Energy, Inc., Agera Energy LLC, energy.me midwest llc.

Description: Notice of Non-Material Change in Status of Agera Energy LLC, et al.

Filed Date: 5/22/18.

Accession Number: 20180522-5190.

Comments Due: 5 p.m. ET 6/12/18.

Docket Numbers: ER17-219-005.

Applicants: PacifiCorp.

Description: Compliance filing: OATT Ancillary—Compliance to 041918 Settlement Order to be effective 1/1/2018.

Filed Date: 5/18/18.

Accession Number: 20180518-5200.

Comments Due: 5 p.m. ET 6/8/18.

Docket Numbers: ER17-219-006.

Applicants: PacifiCorp.

Description: Compliance filing: OATT Ancillary Compliance—Attachments U & V to be effective 7/1/2018.

Filed Date: 5/18/18.

Accession Number: 20180518-5201.

Comments Due: 5 p.m. ET 6/8/18.

Docket Numbers: ER18-649-001.

Applicants: Hunlock Energy, LLC.

Description: Compliance filing: Informational Filing Regarding Upstream Change in Control (Docket No. EL18-121) to be effective N/A.

Filed Date: 5/22/18.

Accession Number: 20180522-5207.

Comments Due: 5 p.m. ET 6/12/18.

Docket Numbers: ER18-1655-000.

Applicants: 4C Acquisition, LLC.

Description: Tariff Cancellation: 4CA Cancellation of Cost Based Rate Tariff to be effective 12/31/9998.

Filed Date: 5/18/18.

Accession Number: 20180518-5155.

Comments Due: 5 p.m. ET 6/8/18.

Docket Numbers: ER18-1656-000.

Applicants: 4C Acquisition, LLC.

Description: Tariff Cancellation: 4CA Cancellation of Market Based Rate Tariff to be effective 12/31/9998.

Filed Date: 5/18/18.

Accession Number: 20180518-5156.

Comments Due: 5 p.m. ET 6/8/18.

Docket Numbers: ER18-1657-000.

Applicants: 4C Acquisition, LLC.

Description: Tariff Cancellation: 4CA Cancellation of Rate Schedule Nos. 1-6 to be effective 12/31/9998.

Filed Date: 5/18/18.

Accession Number: 20180518-5164.

Comments Due: 5 p.m. ET 6/8/18.

Docket Numbers: ER18-1658-000.

Applicants: Arizona Public Service Company.

Description: Tariff Cancellation: APS Cancellation of Rate Schedule Nos. 286 and 287 to be effective 12/31/9998.

Filed Date: 5/18/18.

Accession Number: 20180518-5171.

Comments Due: 5 p.m. ET 6/8/18.

Docket Numbers: ER18-1659-000.

Applicants: Arizona Public Service Company.

Description: § 205(d) Rate Filing: Rate Schedule Nos. 44, 98, and 211 to be effective 12/31/9998.

Filed Date: 5/18/18.

Accession Number: 20180518-5192.

Comments Due: 5 p.m. ET 6/8/18.

Docket Numbers: ER18-1660-000.

Applicants: Arizona Public Service Company.

Description: § 205(d) Rate Filing: Rate Schedule No. 291—BA Services Agreement with NTEC to be effective 12/31/9998.

Filed Date: 5/18/18.

Accession Number: 20180518-5199.

Comments Due: 5 p.m. ET 6/8/18.

Docket Numbers: ER18-1661-000.

Applicants: Midcontinent Independent System Operator, Inc. Great River Energy.

Description: § 205(d) Rate Filing: 2018-05-22_Filing to revise Attachment GG-GRE Annual True-Up Procedure to be effective 7/22/2018.

Filed Date: 5/22/18.

Accession Number: 20180522-5206.

Comments Due: 5 p.m. ET 6/12/18.

Docket Numbers: ER18-1662-000.

Applicants: Southwest Power Pool, Inc.

Description: § 205(d) Rate Filing: Clarify Contingency Reserve Clearing During Contingency Reserve Events to be effective 7/22/2018.

Filed Date: 5/22/18.

Accession Number: 20180522-5208.

Comments Due: 5 p.m. ET 6/12/18.

Docket Numbers: ER18-1663-000.

Applicants: PJM Interconnection, L.L.C.

Description: § 205(d) Rate Filing: First Revised ISA SA No. 4723; Queue No. AA2-173/AB1-112/AC2-142 to be effective 4/20/2018.

Filed Date: 5/22/18.

Accession Number: 20180522-5211.

Comments Due: 5 p.m. ET 6/12/18.

Docket Numbers: ER18-1664-000.

Applicants: AES Ohio Generation, LLC.

Description: § 205(d) Rate Filing: AES Ohio Generation Reactive Power Filing to be effective 6/1/2018.

Filed Date: 5/22/18.

Accession Number: 20180522-5212.

Comments Due: 5 p.m. ET 6/12/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 22, 2018.
Nathaniel J. Davis, Sr.,
Deputy Secretary.

[FR Doc. 2018-11381 Filed 5-25-18; 8:45 am]

BILLING CODE 6717-01-P